FARM CREDIT ADMINISTRATION

Strategic Plan for Fiscal Years 2004-2009

AGENCY: Farm Credit Administration.

ACTION: Notice of approval and availability.

SUMMARY: This notice announces the approval and availability of the Farm Credit Administration's (FCA or agency) Strategic Plan for Fiscal Years 2004-2009 (revised Strategic Plan). The Government Performance and Results Act of 1993 requires that Federal agencies update their strategic plans at least every 3 years and, in doing so, solicit the views and suggestions of those entities potentially affected by or interested in the plan. In formulating the revised Strategic Plan, the agency solicited input from various constituent groups. Additionally, a draft of the Strategic Plan was made available for comment in October 2003.

DATES: December 11, 2003.

ADDRESSES: The revised Strategic Plan is available on the agency's Web site at http://www.fca.gov.

FOR FURTHER INFORMATION CONTACT: Jeff Walker, Executive Assistant, Office of the Chief Operating Officer, Farm Credit Administration, McLean, VA 22102-5090, (703) 883-4271; TTY (703) 883-4056.

SUPPLEMENTARY INFORMATION: The Farm Credit Administration (FCA or agency) is charged by Congress, as established in Title V of the Farm Credit Act of 1971, as amended, with the mandate of overseeing the agricultural Government-sponsored enterprises (GSEs) serving rural America. These include the Farm Credit System (System) and the Federal Agricultural Mortgage Corporation. FCA also has statutory responsibility to examine the National Consumer Cooperative Bank, a non-System entity operating as a federally chartered, privately owned banking corporation.

The Government Performance and Results Act of 1993 (GPRA) requires that each Federal agency establish a strategic plan that covers a period of not less than 5 years. It also mandates that these plans be updated and revised at least every 3 years. In accordance with GPRA, FCA issued its first strategic plan in 1997. A revised plan was approved in 2000. Thus, the Strategic Plan for Fiscal Years 2004-2009 represents the second update to the agency's original Strategic Plan completed under GPRA. The revised Strategic Plan describes our mission, our strategic goals, and strategies to achieve those goals over the next 5 years.

The Strategic Plan for Fiscal Years 2004-2009 is the culmination of an extensive outreach effort. The FCA Board began its work on this plan in April 2003 by initiating a series of strategic planning sessions to seek input from farmers, the Farm Credit Council and other Farm Credit System representatives, academics and economists, the American Bankers Association, the Independent Community Bankers of America, former FCA Board chairmen and FCA senior management. Subsequent planning sessions held by the Board and the Office of the Chief Operating Officer over the next several months were used to establish specific direction for formulation of a draft Strategic Plan for Fiscal Years 2004-2009, which the agency released for comment in October 2003 for a 30-day period.

The agency received 24 comment letters on the draft Strategic Plan for Fiscal Years 2004-2009. Most of the comment letters (22 of 24) came from the agency's staff. To the extent practicable, applicable comments recommending revisions to specific sections of the draft Strategic Plan were incorporated in the revised Strategic Plan. Most of the revisions made were in the interest of providing clarification and did not represent material changes to the draft Strategic Plan. The most substantive revision was the decision to identify Goal 3 in the Plan, Implementation of the President's Management Agenda, as the third strategic goal rather than an operational goal, as it was defined in the draft Strategic Plan. One commenter felt this goal was also strategic in nature, just as Goals 1 and 2, and the FCA Board ultimately agreed.

Dated: December 23, 2003.
James M. Morris,
Acting Secretary, Farm Credit Administration Board.

[FR Doc. 03-32128 Filed 12-30-03; 8:45 am]

BILLING CODE 6705-01-P